DEPARTMENT OF COMMERCE

International Trade Administration

[A-580-897]

Large Diameter Welded Pipe From the Republic of Korea: Amended Final Affirmative Antidumping Determination and Antidumping Duty Order

AGENCY: Enforcement and Compliance, International Trade Administration, Department of Commerce.

SUMMARY: Based on affirmative final determinations by the Department of Commerce (Commerce) and the International Trade Commission (ITC), Commerce is issuing an antidumping duty order on large diameter welded carbon and alloy steel line and structural pipe from the Republic of Korea (Korea). In addition, Commerce is amending its final affirmative determination.

DATES: Applicable May 2, 2019.

FOR FURTHER INFORMATION CONTACT: Sergio Balbontin at (202) 482-6478 or Janae Martin at (202) 482-0238, AD/CVD Operations, Enforcement and Compliance, U.S. Department of Commerce, 1401 Constitution Avenue NW, Washington, DC 20230.

SUPPLEMENTARY INFORMATION:

Background

On February 27, 2019, Commerce published its affirmative final determination in the less-than-fair-value (LTFV) investigation of large diameter welded pipe from Korea.¹ The scope of the investigation in Commerce's final determination covered large diameter welded carbon and alloy steel line pipe (welded line pipe), large diameter welded carbon and alloy steel structural pipe (welded structural pipe), and stainless steel large diameter welded pipe (stainless steel pipe) from Korea.² As discussed below, the ITC subsequently found three domestic like products covered by the scope of the investigation (welded line pipe, welded structural pipe, and stainless steel pipe) and, accordingly, made a separate injury determination with respect to each domestic like product. On April 15, 2019, the ITC notified Commerce of its final determination, pursuant to 735(d) of the Tariff Act of 1930, as amended (the Act), that an industry in the United States is materially injured within the meaning of section 735(b)(1)(A)(i) of the Act, by reason of LTFV imports of welded line pipe and welded structural pipe from Korea.³ Additionally, the ITC made a negative determination of material injury or threat of material injury with respect to stainless steel pipe.⁴ Commerce released draft revised scope language for comment by parties.⁵ No party objected to the revised scope language in this proceeding.

¹ See Large Diameter Welded Pipe from the Republic of Korea: Final Determination of Sales at Less Than Fair Value, 84 FR 6374 (February 27, 2019) (Final Determination).

² Id.

³ See ITC Notification Letter regarding ITC Investigation Nos. 701-TA-595-596 and 731-TA-1401, 1403, 1405-1406, dated April 15, 2019 (ITC Notification); see also Large Diameter Welded Pipe from Canada, Greece, Korea, and Turkey; Determinations, 84 FR 16533 (April 19, 2019) (ITC Final Determination); and Large Diameter Welded Pipe from Canada, Greece, Korea, and Turkey, Investigation Nos. 701-TA-595-596 and 731-TA-1401, 1403, 1405-1406 (Final), Publication 4883, April 2019 (Final ITC Report).

⁴ See ITC Notification.

⁵ See Memorandum, “Comments on the Scope of the Orders,” dated April 5, 2019.

Scope of the Order

The products covered by this order are welded line pipe and welded structural pipe from Korea. For a complete description of the scope of this order, see the Appendix to this notice.

Amended Final Determination

A ministerial error is defined as an error in addition, subtraction, or other arithmetic function, clerical error resulting from inaccurate copying, duplication, or the like, and any other similar type of unintentional error which the Secretary considers ministerial.⁶

⁶ See section 735(e) of the Act and 19 CFR 351.224(f).

Pursuant to section 735(e) of the Act and 19 CFR 351.224(e) and (f), Commerce is amending the Final Determination to reflect the correction of certain ministerial errors in the final estimated weighted average dumping margin calculated for SeAH Steel Corporation (SeAH). In addition, because SeAH's estimated weighted average dumping margin is the basis for the estimated weighted average dumping margin determined for all other Korean producers and exporters of subject merchandise, we also are revising the “all-others” rate in the Final Determination.⁷ The amended estimated weighted average dumping margins are listed in the Suspension of Liquidation section below.

⁷ See Memorandum, “Less-Than-Fair-Value Investigation of Large Diameter Welded Pipe from Korea: Ministerial Error Allegations in the Final Determination,” dated March 22, 2019.

Antidumping Duty Order

On April 15, 2019, in accordance with sections 735(b)(1)(A)(i) and 735(d) of the Act, the ITC notified Commerce of its final determination in this investigation, in which it found that imports of welded line pipe and welded structural pipe from Korea are materially injuring a U.S. industry.⁸ As a result, and in accordance with sections 735(c)(2) and 736 of the Act, we are publishing this antidumping duty order. As noted above, in its determination, the ITC found three domestic like products covered by the scope of the investigation: Welded line pipe, welded structural pipe, and stainless steel pipe. The ITC made a negative determination with respect to stainless steel pipe from Korea. The ITC made an affirmative determination with respect to welded line pipe and welded structural pipe from Korea. Because the ITC made distinct and different injury determinations for separate domestic like products, Commerce will instruct U.S. Customs and Border Protection (CBP) to assess antidumping duties on entries of welded line pipe and welded structural pipe (subject merchandise) from Korea, and not on entries of stainless steel pipe (excluded merchandise) from Korea.

⁸ See ITC Notification; and ITC Final Determination.

Welded Line Pipe

The Final ITC Report describes welded line pipe as a tubular product produced from carbon and alloy steel, produced to American Petroleum Institute (API) 5L specifications, and designed for conveying liquids and gases.⁹ Because the ITC determined that LTFV imports of welded line pipe from Korea are materially injuring a U.S. industry,¹⁰ all unliquidated entries of subject merchandise from Korea, entered or withdrawn from warehouse, are subject to the assessment of antidumping duties, as described below.

⁹ See Final ITC Report at 7.

¹⁰ Id. at 1 and 5.

As a result of the ITC Final Determination, in accordance with section 736(a) of the Act, Commerce will direct CBP to assess, upon further instruction by Commerce, antidumping duties equal to the amount by which the normal value of the merchandise exceeds the export price (or constructed export price) of the merchandise for all relevant entries of welded line pipe from Korea. Antidumping duties will be assessed on unliquidated entries of welded line pipe from Korea entered, or withdrawn from warehouse, for consumption on or after August 27, 2018, the date of publication of the Preliminary Determination,¹¹ but will not be assessed on entries occurring after the expiration of the provisional measures period, beginning on February 23, 2019, in accordance with section 733(d) of the Act, until the date of publication of the ITC Final Determination in the Federal Register.

¹¹ See Large Diameter Welded Pipe from the Republic of Korea: Preliminary Determination of Sales at Less Than Fair Value and Postponement of Final Determination, 83 FR 43651 (August 27, 2018) (Preliminary Determination).

Welded Structural Pipe

The Final ITC Report describes welded structural pipe as a tubular product produced from carbon and alloy steel, produced to American Society for Testing and Materials (ASTM) specifications, and designed for support in construction projects and piling.¹² Because the ITC determined that LTFV imports of welded structural pipe from Korea are materially injuring a U.S. industry,¹³ all unliquidated entries of subject merchandise from Korea, entered or withdrawn from warehouse, are subject to the assessment of antidumping duties, as described below.

¹² See Final ITC Report at 7.

¹³ Id. at 1 and 5.

As a result of the ITC Final Determination, in accordance with section 736(a) of the Act, Commerce will direct CBP to assess, upon further instruction by Commerce, antidumping duties for all relevant entries of welded structural pipe from Korea. Antidumping duties will be assessed on unliquidated entries of welded structural pipe from Korea entered, or withdrawn from warehouse, for consumption on or after August 27, 2018, the date of publication of the Preliminary Determination,¹⁴ but will not be assessed on entries occurring after the expiration of the provisional measures period, beginning on February 23, 2019, in accordance with section 733(d) of the Act, until the date of publication of the ITC Final Determination in the Federal Register.

¹⁴ See Preliminary Determination.

Stainless Steel Pipe

The Final ITC Report describes stainless steel pipe as being produced from stainless steel for its high-chrome chemistry and corrosion-resistant properties.¹⁵ Because the ITC made a negative determination of material injury or threat of material injury by reason of LTFV imports of stainless steel pipe from Korea,¹⁶ Commerce will direct CBP to terminate the suspension of liquidation for entries of stainless steel pipe from Korea entered, or withdrawn from warehouse, and to refund all cash deposits with respect to these entries pursuant to section 735(c)(2) of the Act.

¹⁵ See Final ITC Report at 7.

¹⁶ Id. at 1-2 and 5.

Suspension of Liquidation

In accordance with section 736 of the Act, Commerce will direct CBP to reinstitute the suspension of liquidation of subject merchandise (i.e., welded line pipe and welded structural pipe) from Korea, effective the date of publication of the ITC Final Determination in the Federal Register, and to assess, upon further instruction by Commerce pursuant to section 736(a)(1) of the Act, antidumping duties for each entry of the subject merchandise equal to the amount by which the normal value of the merchandise exceeds the export price (or constructed export price) of the merchandise. We intend to instruct CBP to require, at the same time as importers would normally deposit estimated import duties on this merchandise, cash deposits for each entry of subject merchandise equal to the rates noted below. These instructions suspending liquidation will remain in effect until further notice. For the purpose of determining cash deposit rates, the estimated weighted average dumping margins for imports of subject merchandise from Korea have been adjusted, as appropriate, for export subsidies found in the final determination of the companion countervailing duty investigation of this merchandise imported from Korea. The all-others rate applies to all other producers or exporters not specifically listed.

Company | Estimated weighted- average dumping margin (percent) | Estimated weighted- average dumping margin adjusted for subsidy offset(s) (percent) ¹⁷
Hyundai RB Co., Ltd | 14.97 | 12.86
SeAH Steel Corporation | 6.87 | 4.76
Samkang M&T Co., Ltd | 20.39 | 18.28
All Others | 9.19 | 7.08

Notifications to Interested Parties

¹⁷ See Final Determination and accompanying Issues and Decision Memorandum at 7.

This notice constitutes the antidumping duty order with respect to welded line pipe and welded structural pipe from Korea pursuant to section 736(a) of the Act. Interested parties can find a list of antidumping duty orders currently in effect at http://enforcement.trade.gov/stats/iastats1.html.

This amended final determination and order is published in accordance with sections 735(e) and 736(a) of the Act, and 19 CFR 351.211(b) and 351.224(e) and (f).

Dated: April 23, 2019.
Jeffrey I. Kessler,
Assistant Secretary for Enforcement and Compliance.

Appendix

Scope of the Order

The merchandise covered by this order is welded carbon and alloy steel pipe (other than stainless steel pipe), more than 406.4 mm (16 inches) in nominal outside diameter (large diameter welded pipe), regardless of wall thickness, length, surface finish, grade, end finish, or stenciling. Large diameter welded pipe may be used to transport oil, gas, slurry, steam, or other fluids, liquids, or gases. It may also be used for structural purposes, including, but not limited to, piling. Specifically, not included is large diameter welded pipe produced only to specifications of the American Water Works Association (AWWA) for water and sewage pipe.

Large diameter welded pipe used to transport oil, gas, or natural gas liquids is normally produced to the American Petroleum Institute (API) specification 5L. Large diameter welded pipe may also be produced to American Society for Testing and Materials (ASTM) standards A500, A252, or A53, or other relevant domestic specifications, grades and/or standards. Large diameter welded pipe can be produced to comparable foreign specifications, grades and/or standards or to proprietary specifications, grades and/or standards, or can be non-graded material. All pipe meeting the physical description set forth above is covered by the scope of this order, whether or not produced according to a particular standard.

Subject merchandise also includes large diameter welded pipe that has been further processed in a third country, including but not limited to coating, painting, notching, beveling, cutting, punching, welding, or any other processing that would not otherwise remove the merchandise from the scope of the order if performed in the country of manufacture of the in-scope large diameter welded pipe.

Excluded from the scope are any products covered by the existing antidumping duty order on welded line pipe from the Republic of Korea. See Welded Line Pipe from the Republic of Korea and the Republic of Turkey: Antidumping Duty Orders, 80 FR 75056 (December 1, 2015).

The large diameter welded pipe that is subject to this investigation is currently classifiable in the Harmonized Tariff Schedule of the United States (HTSUS) under subheadings 7305.11.1030, 7305.11.1060, 7305.11.5000, 7305.12.1030, 7305.12.1060, 7305.12.5000, 7305.19.1030, 7305.19.1060, 7305.19.5000, 7305.31.4000, 7305.31.6090, 7305.39.1000 and 7305.39.5000. While the HTSUS subheadings are provided for convenience and customs purposes, the written description of the scope of this order is dispositive.

[FR Doc. 2019-08950 Filed 5-1-19; 8:45 am]

BILLING CODE 3510-DS-P